OFFICE OF SCIENCE AND TECHNOLOGY POLICY

Notice of Request for Comment

AGENCY: Office of Science and Technology Policy.

ACTION: Notice of Request for Comment.

SUMMARY: On behalf of the National Science and Technology Council (NSTC), the In-space Servicing, Assembly, and Manufacturing (ISAM) Interagency Working Group coordinates science and technology policy, strategy, and federal research and development (R&D) pertaining to ISAM-related capabilities. NSTC operates under the auspices of the Office of Science and Technology Policy (OSTP). This coordinated effort aims to ensure that U.S. leadership in servicing, assembly, manufacturing capabilities in space and their applications is maintained and expanded for future use. OSTP requests input from all interested parties on the In-space Servicing, Assembly and Manufacturing (ISAM) National Strategy,¹ and on specific U.S. Government actions or initiatives to advance the strategy's stated goals. Input received will inform the ISAM Interagency Working Group's development of an ISAM implementation plan.

¹ https://www.whitehouse.gov/wp-content/uploads/2022/04/04-2022-ISAM-National-Strategy-Final.pdf.

DATES: Responses are due by June 30, 2022.

ADDRESSES: Interested individuals and organizations should submit comments electronically to Ezinne Uzo-Okoro at isam@ostp.eop.gov. Further information may be received by calling 202-456-4444.

Instructions: Response to this RFC is voluntary. Respondents need not reply to all questions listed. Each individual or institution is requested to submit only one response. OSTP and/or NSTC may post responses to this RFC, without change, on a Federal website. OSTP, therefore, requests that no business proprietary information, copyrighted information, or personally identifiable information be submitted in response to this RFC. Please note that the United States Government will not pay for response preparation, or for the use of any information contained in the response.

SUPPLEMENTARY INFORMATION: The ISAM Interagency Working Group has commenced the development of an implementation plan to be released in 2022. Pursuant to 42 U.S.C. 6622, OSTP is soliciting public input through this RFC to obtain recommendations from a wide range of stakeholders, including representatives from industry, academia, other relevant organizations and institutions, and the general public. Input provided in response to this RFC will inform OSTP and NSTC as they work with Federal departments and agencies and other stakeholders to develop an In-space Servicing, Assembly, and Manufacturing implementation plan. This implementation plan will identify key actions to advance the goals and objectives outlined in the ISAM national strategy published in April 2022. The national strategy can be found at: https://www.whitehouse.gov/wp-content/uploads/2022/04/04-2022-ISAM-National-Strategy-Final.pdf.

Implementing this strategy will help the United States realize the benefits of ISAM capabilities by taking steps to: improve coordination and collaboration both within the USG, as well as among the USG, academia, industry, and international partners; send a clear and consistent demand signal to private industry in order to stimulate investment, mitigate risk, and address investor confidence; and establish and adopt ISAM standards to help promote growth. The strategy is organized around six goals: (1) Advance ISAM research and development, (2) prioritize expanding scalable ISAM infrastructure, (3) accelerate the emerging ISAM commercial industry, (4) promote international collaboration and cooperation, (5) prioritize environmental sustainability and 6) inspire the future space workforce.

OSTP seeks public input from the community of ISAM stakeholders on what priorities the government should focus on in the implementation plan. This includes actions for government-sponsored initiatives/coordination; the roles of academia, nonprofit, and industry actors in addressing these actions; and potential avenues for coordination between actors across public and private sectors.

Questions To Inform Development of the Implementation Plan

OSTP seeks responses to the following questions to improve government coordination and to provide long-term guidance for Federal programs and activities in support of the United States In-space Servicing, Assembly, and Manufacturing implementation plan.

(1) What specific technologies and capabilities require priority R&D focus to enable and advance the development of a suite of commercial ISAM capabilities over the next 10-15 years?

(2) What infrastructure, ground, space-based, or digital, or other non-monetary resources will be critical to enabling the advancement of ISAM capabilities and the commercial ISAM industry?

(3) What factors (e.g., demand for services, lack of regulation, government funding, USG space priorities and space architecture decisions, significant debris event) may accelerate or decelerate progress in the development and advancement of the ISAM industry?

(4) What are the most effective kinds of partnerships, between the U.S. Government, industry, and academia, that would advance ISAM industry maturity and ISAM capabilities? What partnership opportunities exist, both nationally and internationally, outside of the Federal Government?

(5) What are the highest priority actions that the USG can take over the next five years to implement the goals outlined in the ISAM strategy?

Dated: April 29, 2022.
Stacy Murphy,
Operations Manager.

[FR Doc. 2022-09549 Filed 5-3-22; 8:45 am]

BILLING CODE 3271-F1-P